DEPARTMENT OF AGRICULTURE

Animal and Plant Health Inspection Service

[Docket No. APHIS-2010-0040]

Florigene Pty., Ltd.; Availability of Petition and Environmental Assessment for Determination of Nonregulated Status for Altered Color Roses

Correction

In notice document 2011-8775 appearing on pages 20623-20624 in the issue of Wednesday, April 13, 2011 make the following correction:

On page 20623, in the third column, in the fourth paragraph, in the third line from the bottom “IFD-524-1-4 and IFD-529-1-9” should read “IFD-524Ø1-4 and IFD-529Ø1-9”.

[FR Doc. C1-2011-8775 Filed 4-22-11; 8:45 am]

BILLING CODE 1505-01-D